DEPARTMENT OF AGRICULTURE

Rural Telephone Bank, USDA

Staff Briefing for the Board of Directors

TIME AND DATE: 2:00 p.m., Thursday, February 10, 2000.

PLACE: Room 5030, South Building, Department of Agriculture, 1400 Independence Avenue, SW, Washington, DC.

STATUS: Open.

MATTERS TO BE DISCUSSED:

1. Current telecommunications industry issues.

2. Status of PBO planning and recommendations to accelerate privatization of the Bank.

3. Procedure for issuing class C share certificates.

4. Procedure to replace lost share certificates.

5. Administrative issues.

ACTION: Board of Directors Meeting.

TIME AND DATE: 9:00 a.m., Friday, February 11, 2000.

PLACE: Room 104-A, The Williamsburg Room, Department of Agriculture, 12th & Jefferson Drive, SW, Washington, DC.

STATUS: Open.

MATTERS TO BE CONSIDERED: The following matters have been placed on the agenda for the Board of Directors meeting:

1. Call to order.

2. Action on Minutes of the November 9, 1999, board meeting.

3. Report on loans approved in the first quarter of FY 2000.

4. Review first quarter financial statements for FY 2000.

5. Privatization Committee report.

6. Discussion of Privatization Committees' recommendations to:

(a) Contract for a financial advisor to assist the Bank in its preparations for privatization.

(b) Transfer funds to be used for the financial advisor contract from the Bank's Liquidating Account at the U.S. Treasury to a private financial institution.

7. Consideration of resolution to change the procedure for issuing class C share certificates.

8. Consideration of resolution to modify the procedure for replacing lost share certificates.

9. Consideration of resolution to adopt a schedule for various actions concerning the November 2000 Board of Directors election.

10. Consideration of resolution to appoint Tellers for the November 2000 Board of Directors election.

11. Consideration of resolution to approve Kenneth M. Ackerman to serve as the Assistant Treasurer.

12. Adjournment.

CONTACT PERSON FOR MORE INFORMATION: Roberta D. Purcell, Assistant Governor, Rural Telephone Bank, (202) 720-9554.

Dated: January 28, 2000.
Christopher McLean,
Acting Governor, Rural Telephone Bank.

[FR Doc. 00-2451 Filed 2-1-00; 10:30 am]

BILLING CODE 3410-15-P